DEPARTMENT OF THE INTERIOR

Fish and Wildlife Service

[Docket No. FWS-R8-ES-2021-0071; FXES11140800000-212]

Endangered and Threatened Species; Receipt of an Incidental Take Permit Application and Habitat Conservation Plan; Santa Ana Avenue Project, City of Rialto, San Bernardino County, California

AGENCY: Fish and Wildlife Service, Interior.

ACTION: Notice of availability; request for comments.

SUMMARY: We, the U.S. Fish and Wildlife Service (Service), have received an application for an incidental take permit to take the federally listed Delhi Sands flower-loving fly under the Endangered Species Act (ESA). The permit application includes a proposed low-effect habitat conservation plan (HCP). In accordance with the requirements of the National Environmental Policy Act (NEPA), we have prepared a draft low-effect screening form supporting our preliminary determination that the proposed action qualifies as a categorical exclusion under NEPA. We invite comments from the public and Federal, Tribal, State, and local governments on the permit application, proposed low-effect HCP, and draft NEPA compliance documentation.

DATES: To ensure consideration, please send your written comments on or before November 24, 2021.

ADDRESSES:

Obtaining Documents: The documents this notice announces, as well as any comments and other materials that we receive, will be available for public inspection online in Docket No. FWS-R8-ES-2021-0071 at http://www.regulations.gov.

Submitting Comments: You may submit comments by one of the following methods:

• Online: http://www.regulations.gov. Follow the instructions for submitting comments on Docket No. FWS-R8-ES-2021-0071.

• U.S. mail: Public Comments Processing, Attn: Docket No. FWS-R8-ES-2021-0071; U.S. Fish and Wildlife Service, 777 East Tahquitz Canyon Way, Suite 208, Palm Springs, CA 92262.

We request that you send comments by only one of the methods described above.

FOR FURTHER INFORMATION CONTACT: Ms. Karin Cleary-Rose, Division Supervisor, Carlsbad Fish and Wildlife Office, 760-322-2070. If you use a telecommunications device for the deaf (TDD), please call the Federal Relay Service (FRS) at 800-877-8339.

SUPPLEMENTARY INFORMATION: We, the U.S. Fish and Wildlife Service, received an application from Rialto Project Owner, Marshall P. Wilkinson (applicant), for an incidental take permit under the Endangered Species Act of 1973, as amended (ESA; 16 U.S.C. 1531 et seq.). The requested permit would authorize take of the federally endangered Delhi Sands flower-loving fly (Rhaphiomidas terminatus abdominalis), incidental to grading and paving, on approximately 4 acres in the City of Rialto in San Bernardino County, California.

The proposed project will impact an estimated 0.67 acres of habitat occupied by Delhi Sands flower-loving fly. We are requesting comments on the permit application and on our preliminary determination that the proposed HCP qualifies as a low-effect HCP, eligible for a categorical exclusion under the National Environmental Policy Act of 1969, as amended (NEPA; 42 U.S.C. 4321 et seq.). The basis for this determination is discussed in our draft NEPA compliance documentation, which is also available for public review.

Project

The project area is located on a 4-acre site in the City of Rialto in San Bernardino County, California. The applicant requests a 5-year incidental take permit for permanent impacts to 0.67 acres of occupied Delhi Sands flower-loving fly habitat. The applicant proposes to mitigate impacts through the conservation of 1 acre of occupied Delhi Sands flower-loving fly habitat off site at the Colton Dune Conservation Bank in San Bernardino County, or other Service-approved entity. The off-site mitigation area provides higher quality habitat than that found on the project site and will be conserved, managed, and monitored in perpetuity.

Our Preliminary Determination

The Service has made a preliminary determination that the project, including grading, paving, and the proposed mitigation, would individually and cumulatively have a minor or negligible effect on the Delhi Sands flower-loving fly and the human environment. Therefore, we have preliminarily concluded that the incidental take permit for this project would qualify for categorical exclusion, and that the HCP is low effect under our NEPA regulations at 43 CFR 46.205 and 46.210.

A low-effect HCP is one that would result in:

• Minor or negligible effects on federally listed, proposed, and candidate species and their habitats;

• Minor or negligible effects on other environmental values or resources; and

• Impacts that, when considered together with the impacts of other past, present, and reasonably foreseeable similarly situated projects, would not over time result in significant cumulative effects to environmental values or resources.

Next Steps

We will evaluate the proposed HCP and any comments received to determine whether to issue the requested permit. We will also conduct an intra-Service consultation pursuant to section 7 of the ESA to evaluate the effects of the proposed take. After considering the above findings, we will determine whether the permit issuance criteria of section 10(a)(1)(B) of the ESA have been met. If met, we will issue the permit to the applicant for incidental take of the Delhi Sands flower-loving fly.

Public Availability of Comments

Before including your address, phone number, email address, or other personal identifying information in your comment, you should be aware that your entire comment—including your personal identifying information—may be made publicly available at any time. While you may ask us in your comment to withhold your personal identifying information from public review, we cannot guarantee that we will be able to do so.

Authority

We provide this notice under section 10(c) (16 U.S.C. 1539 et seq.) of the ESA and NEPA regulations at 40 CFR 1506.6.

Scott Sobiech,
Field Supervisor, Carlsbad Fish and Wildlife Office, Carlsbad, California.

[FR Doc. 2021-23163 Filed 10-22-21; 8:45 am]

BILLING CODE 4333-15-P